DEPARTMENT OF EDUCATION

[Docket No. ED-2017-ICCD-0065]

Agency Information Collection Activities; Comment Request; NCER-NPSAS Grant Study—Connecting Students with Financial Aid (CSFA) 2017: Testing the Effectiveness of FAFSA Interventions on College Outcomes

AGENCY: Institute of Education Sciences (IES), Department of Education (ED).

ACTION: Notice.

SUMMARY: In accordance with the Paperwork Reduction Act of 1995, ED is proposing a revision to a currently approved information collection.

DATES: Interested persons are invited to submit comments on or before July 17, 2017.

ADDRESSES: To access and review all the documents related to the information collection listed in this notice, please use http://www.regulations.gov by searching the Docket ID number ED-2017-ICCD-0065. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 224-82, Washington, DC 20202-4537.

FOR FURTHER INFORMATION CONTACT: For specific questions related to collection activities, please contact Kashka Kubzdela, 202-245-7377.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: NCER-NPSAS Grant Study—Connecting Students with Financial Aid (CSFA) 2017: Testing the Effectiveness of FAFSA Interventions on College Outcomes.

OMB Control Number: 1850-0931.

Type of Review: Revision of a currently approved information collection.

Respondents/Affected Public: Individuals or Households.

Total Estimated Number of Annual Responses: 52,300.

Total Estimated Number of Annual Burden Hours: 5,534.

Abstract: In 2010, the National Center for Education Research (NCER) and the National Center for Education Statistics (NCES), both within the U.S. Department of Education's Institute of Education Sciences (IES), began collaborating on an education grant opportunity related to the cross-sectional National Postsecondary Student Aid Study (NPSAS). NPSAS is a large, nationally-representative sample of postsecondary institutions and students that contains student-level records on student demographics and family background, work experience, expectations, receipt of financial aid, and postsecondary enrollment (see http://nces.ed.gov/surveys/npsas/about.asp; (OMB #1850-0666)). Since 1987, NPSAS has been fielded every 3 to 4 years, most recently during the 2015-16 academic year. The goal of the NCER-NPSAS grant opportunity collaboration is to provide researchers with the possibility of developing unique research projects pertaining to college persistence and completion that utilize a subset of the NPSAS sample that is not already set aside for one of the NPSAS-based longitudinal studies (BPS or B&B). Under the NCER-NPSAS grant opportunity, researchers can submit applications to the Postsecondary and Adult Education topic within the Education Research Grants program (CFDA 84.305A), under either the Exploration or Efficacy and Replication research goal. Consistent with these two goals, NCER supports research projects using NPSAS to: (1) Explore relationships between malleable factors (e.g., information on benefits of financial aid and FAFSA renewal) and postsecondary persistence and completion, as well as the mediators and moderators of those relationships; and (2) evaluate the efficacy of interventions aimed at improving persistence and completion of postsecondary education (e.g., financial aid and FAFSA renewal advice delivered via text messaging). Researchers approved for funding through this program can obtain indirect access to a subsample of the national NPSAS sample (after the study's student interviews are completed) in order to conduct unique research projects that adhere to the guidelines set forth in the Request for Applications (RFA) for the Education Research Grants Program, as well as guidelines set forth by NCES and the NPSAS program. This request is to conduct, in 2017, the “Connecting Students with Financial Aid (CSFA) 2017: Testing the Effectiveness of FAFSA Interventions on College Outcomes” study, funded by the NCER-NPSAS grant and designed to measure the effectiveness of an intervention that will provide financial aid information and reminders to college students who were initially interviewed as part of NPSAS:16 was approved in January 2017 (OMB# 1850-0931 v.1). Cognitive interviews on the survey items were conducted in March 2017 to examine whether college students correctly understand the question wording and whether their answers get adequately captured in multiple-choice questions of the survey instrument to be administered after the end of the intervention. The results of cognitive testing were used to revise the CSFA survey. This request is for approval of these revisions for the survey that will begin in September 2017.

Dated: May 12, 2017.
Stephanie Valentine,
Acting Director, Information Collection Clearance Division, Office of the Chief Privacy Officer, Office of Management.

[FR Doc. 2017-09964 Filed 5-16-17; 8:45 am]

BILLING CODE 4000-01-P